NATIONAL SCIENCE FOUNDATION

Proposal Review Panel for Physics; Notice of Meeting

In accordance with the Federal Advisory Committee Act (Pub. L. 92-463, as amended), the National Science Foundation (NSF) announces the following meeting:

Name and Committee Code: LIGO Operations Review for the Division of Physics (1208)—LIGO Hanford Observatory Site Visit

Date and Time:

June 18, 2019; 8:30 a.m.-5:00 p.m.

June 19, 2019; 8:30 a.m.-12:00 p.m.

Place: LIGO Hanford Observatory, 127124 N. Route 10, Richland, WA 99354.

Type of Meeting: Part-Open.

Contact Person: Dr. Mark Coles, Program Director, Division of Physics, NSF, 2415 Eisenhower Avenue, Room W 9216, Alexandria, VA 22314; Telephone: (703) 292-4432.

Purpose of Meeting: Site visit to provide an evaluation of the progress of the projects at the host site for the Division of Physics at the National Science Foundation.

Agenda:

June 18, 2019

08:30 a.m.-09:00 a.m. Executive Session; CLOSED

09:00 a.m.-12:00 p.m. Presentations by LIGO; OPEN

12:00 p.m.-12:30 p.m. Lunch;

12:30 p.m.-02:30 p.m. Presentations by LIGO continued; OPEN

02:30 p.m.-04:00 p.m. Breakout sessions A and B; OPEN

04:00 p.m.-05:00 p.m. Executive Session; CLOSED

June 19, 2019

08:30 a.m.-09:00 a.m. Executive Session; CLOSED

09:00 a.m.-10:00 a.m. LIGO Q&A with panel; OPEN

10:00 a.m.-11:30 a.m. Executive Session; CLOSED

11:30 a.m.-12:00 p.m. Review Panel Report to LIGO; OPEN

Reason for Closing: The work being reviewed during closed portions of the site visit include information of a proprietary or confidential nature, including technical information; financial data, such as salaries and personal information concerning individuals associated with the project. These matters are exempt under 5 U.S.C. 552b(c), (4) and (6) of the Government in the Sunshine Act.

Dated: May 16, 2019.
Crystal Robinson,
Committee Management Officer.

[FR Doc. 2019-10576 Filed 5-20-19; 8:45 am]

BILLING CODE 7555-01-P